DEPARTMENT OF ENERGY

Federal Energy Regulatory Commission

Combined Notice of Filings #1

December 28, 2005.

Take notice that the Commission received the following electric rate filings:

Docket Numbers: ER04-691-068.

Applicants: Midwest Independent Transmission System Operator, Inc.

Description: Midwest Independent Transmission System Operator, Inc submits Substitute Third Revised Sheet 50 et al to FERC Electric Tariff, Third Revised Volume No. 1.

Filed Date: 12/20/2005.

Accession Number: 20051223-0010.

Comment Date: 5 p.m. Eastern Time on Tuesday, January 10, 2006.

Docket Numbers: ER05-143-003.

Applicants: Reliant Energy Florida, LLC.

Description: Reliant Energy Florida LLC clarifies the change in contracted status of its Indian River Generating Facility.

Filed Date: 12/20/2005.

Accession Number: 20051222-0054.

Comment Date: 5 p.m. Eastern Time on Tuesday, January 10, 2006.

Docket Numbers: ER05-1495-001.

Applicants: American Electric Power Service Corporation.

Description: American Electric Power Service Corp as agent for Appalachian Power Co submits its compliance filing.

Filed Date: 12/19/2005.

Accession Number: 20051221-0094.

Comment Date: 5 p.m. Eastern Time on Monday, January 9, 2006.

Docket Numbers: ER06-71-001.

Applicants: Southwestern Public Service Company.

Description: Southwestern Public Service Co submits revisions to their FERC Electric Rate Schedule No. 118.

Filed Date: 12/09/2005.

Accession Number: 20051214-0016.

Comment Date: 5 p.m. Eastern Time on Monday, January 9, 2006.

Docket Numbers: ER06-109-001.

Applicants: Southwest Power Pool, Inc.

Description: Southwest Power Pool Inc submits an executed service agreement for long-term firm point to point transmission service with Southwestern Public Service Co et al.

Filed Date: 12/19/2005.

Accession Number: 20051221-0091.

Comment Date: 5 p.m. Eastern Time on Thursday, January 5, 2006.

Docket Numbers: ER06-116-001.

Applicants: Entergy Services, Inc.

Description: Entergy Services Inc submits on behalf of Entergy Gulf States Inc, Exhibit C to the Rate Schedules providing for cost-based power sales for full requirements service to the City of Caldwell et al.

Filed Date: 12/20/2005.

Accession Number: 20051222-0052.

Comment Date: 5 p.m. Eastern Time on Tuesday, January 10, 2006.

Docket Numbers: ER06-117-000.

Applicants: FirstEnergy Solutions Corp.

Description: Notice of appearance of Michael L Kurtz, and Kurt J Boehm as counsel for Mittal Steel USA ISG, Inc.

Filed Date: 12/20/2005.

Accession Number: 20051222-0062.

Comment Date: 5 p.m. Eastern Time on Tuesday, January 10, 2006.

Docket Numbers: ER06-229-001.

Applicants: Safeway Inc.

Description: Safeway, Inc's sumbits Rate Schedule No.1 in accordance with FERC Order 614 guidelines.

Filed Date: 12/20/2005.

Accession Number: 20051223-0009.

Comment Date: 5 p.m. Eastern Time on Tuesday, January 10, 2006.

Docket Numbers: ER06-246-000.

Applicants: Allegheny Power.

Description: Allegheny Power submits a notice of cancellation of the Interconnection & Operating Agreement with Mill Run Windpower, LLC.

Filed Date: 11/23/2005.

Accession Number: 20051129-0128.

Comment Date: 5 p.m. Eastern Time on Thursday, January 5, 2006.

Docket Numbers: ER06-247-000.

Applicants: Allegheny Power.

Description: Allegheny Power submits a notice of cancellation of the Power Resale Agreement, dated as of 3/18/87 between Monongahela Power Co & West Penn Power Co et al.

Filed Date: 11/23/2005.

Accession Number: 20051129-0129.

Comment Date: 5 p.m. Eastern Time on Thursday, January 5, 2006.

Docket Numbers: ER06-248-000.

Applicants: Allegheny Power.

Description: Allegheny Power submits a notice of cancellation of the Interconnection and Operating Agreement with Industrial Power Generating Corp for Mountain View etc.

Filed Date: 11/23/2005.

Accession Number: 20051129-0130.

Comment Date: 5 p.m. Eastern Time on Thursday, January 5, 2006.

Docket Numbers: ER06-343-000.

Applicants: Northeast Utilities Service Company.

Description: Northeast Utilities Service Co submits a Notice of Cancellation of NU Companies Service Agreement No.13 under ISO New England, Inc's FERC Electric Tariff No. 3.

Filed Date: 12/19/2005.

Accession Number: 20051221-0035.

Comment Date: 5 p.m. Eastern Time on Monday, January 9, 2006.

Docket Numbers: ER06-344-000.

Applicants: Southwest Power Pool.

Description: Southwest Power Pool, Inc submits revisions to Attachment AD of its Open Access Transmission Tariff to modify the Tariff Administration Agreement w/Southwestern Power Administration.

Filed Date: 12/19/2005.

Accession Number: 20051221-0036.

Comment Date: 5 p.m. Eastern Time on Monday, January 09, 2006.

Docket Numbers: ER06-345-000.

Applicants: Arizona Public Service Company.

Description: Arizona Public Service Co's compliance filing, in response to FERC's Order 2006-A.

Filed Date: 12/20/2005.

Accession Number: 20051222-0077.

Comment Date: 5 p.m. Eastern Time on Tuesday, January 10, 2006.

Docket Numbers: ER06-346-000.

Applicants: Desert Generation & Transmission Co-operative, Inc.

Description: Deseret Generation & Transmission Co-operative, Inc submits an Agreement for Large Industrial Rate with Bridger Valley Electric Association.

Filed Date: 12/19/2005.

Accession Number: 20051221-0038.

Comment Date: 5 p.m. Eastern Time on Monday, January 09, 2006.

Docket Numbers: ER06-347-000.

Applicants: Arizona Public Service Company.

Description: Arizona Public Service Co submits revisions to its Open Access Transmission Tariff to comply with FERC's Order 661-A.

Filed Date: 12/20/2005.

Accession Number: 20051222-0049.

Comment Date: 5 p.m. Eastern Time on Tuesday, January 10, 2006.

Docket Numbers: ER06-348-000.

Applicants: DTE East China, LLC.

Description: DTE East China LLC submits its proposed FERC Electric Tariff No. 5 which set the cost-based revenue requirement.

Filed Date: 12/20/2005.

Accession Number: 20051222-0048.

Comment Date: 5 p.m. Eastern Time on Tuesday, January 10, 2006.

Docket Numbers: ER06-349-000.

Applicants: Florida Power & Light Company.

Description: Florida Power & Light Co submits it Notice of Cancellation of 1st Revised Service Agreement No. 184 and 185 with Duke Energy Trading and Marketing LLC.

Filed Date: 12/20/2005.

Accession Number: 20051223-0015.

Comment Date: 5 p.m. Eastern Time on Tuesday, January 10, 2006.

Docket Numbers: ER06-350-000.

Applicants: Midwest Independent Transmission System Operator, Inc.

Description: Midwest Independent Transmission System Operator Inc submits revisions toAttachment (Grandfathered Agreement) of its Open Access Transmission and Energy Market Tariff.

Filed Date: 12/20/2005.

Accession Number: 20051223-0014.

Comment Date: 5 p.m. Eastern Time on Tuesday, January 10, 2006.

Docket Numbers: ER06-369-000.

Applicants: Pacific Gas and Electric Company.

Description: Pacific Gas and Electric Co submits temporary modifications to the Service Agreement No. 42 for Network Integration Transmission Service with the San Francisco Bay Area Rapid Transit District.

Filed Date: 12/20/2005.

Accession Number: 20051227-0225.

Comment Date: 5 p.m. Eastern Time on Tuesday, January 10, 2006.

Docket Numbers: ER06-370-000.

Applicants: California Independent System Operator C orporation.

Description: California Independent System Operator Corp submits an Amended and Restated Interconnected Control Area Operating Agreement with Sierra Pacific Power Co, effective 2/1/06.

Filed Date: 12/20/2005.

Accession Number: 20051228-0015.

Comment Date: 5 p.m. Eastern Time on Tuesday, January 10, 2006.

Docket Numbers: ER98-2782-010.

Applicants: AG-Energy LP.

Description: AG-Energy, LP, Power City Partners, LP et al notifies FERC of a non-material change in facts regarding their upstream ownership.

Filed Date: 12/09/2005.

Accession Number: 20051214-0015.

Comment Date: 5 p.m. Eastern Time on Thursday, January 5, 2006.

Docket Numbers: ER99-3491-008; ER00-2184-006; ER00-2185-006; EL05-124-003.

Applicants: PPL Montana, LLC; PPL Colstrip I, LLC; PPL Colstrip II, LLC.

Description: PPL Montana LLC, PPL Colstrip I, LLC and PPL Colstrip II LLC submits informational filing.

Filed Date: 12/20/2005.

Accession Number: 20051222-0055.

Comment Date: 5 p.m. Eastern Time on Tuesday, January 10, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E6-46 Filed 1-6-06; 8:45 am]

BILLING CODE 6717-01-P